DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of 10 individuals and 14 entities whose property and interests in property have been blocked pursuant to the Foreign Narcotics Kingpin Designation Act (Kingpin Act) (21 U.S.C. 1901-1908, 8 U.S.C. 1182).

DATES: The designation by the Director of OFAC of the 10 individuals and 14 entities identified in this notice pursuant to section 805(b) of the Kingpin Act is effective on November 19, 2014.

FOR FURTHER INFORMATION CONTACT: Assistant Director, Sanctions Compliance & Evaluation, Office of Foreign Assets Control, U.S. Department of the Treasury, Washington, DC 20220. Telephone Number: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 19, 2014, the Director of OFAC designated the following 10 individuals and 14 entities whose property and interests in property are blocked pursuant to section 805(b) of the Kingpin Act.

Individuals

1. ARREDONDO ORTIZ, Carlos Arturo (a.k.a. “MATEO”); DOB 22 Nov 1966; POB Itagui, Antioquia, Colombia; citizen Colombia; Cedula No. 98520515 (Colombia) (individual) [SDNTK].

2. BEDOYA LOPEZ, Gildardo de Jesus; DOB 18 Dec 1963; POB Abejorral, Antioquia, Colombia; citizen Colombia; Cedula No. 70560012 (Colombia) (individual) [SDNTK] (Linked To: COLOMBIANA DE BIOCOMBUSTIBLES S.A.; Linked To: REPRESENTACIONES MIDAS; Linked To: GARCES Y BEDOYA CIA. LTDA).

3. ECHEVERRI PAREJA, Oscar Alonso (a.k.a. “MOSCO”); DOB 07 May 1971; POB Envigado, Antioquia, Colombia; citizen Colombia; Cedula No. 98564040 (Colombia) (individual) [SDNTK] (Linked To: ACUAMATERIALES Y CIA. LIMITADA).

4. GALLEGO ORREGO, Margarita Zulay; DOB 18 Oct 1953; POB Colombo, Antioquia, Colombia; citizen Colombia; Cedula No. 32334460 (Colombia) (individual) [SDNTK] (Linked To: ENVIGADO FUTBOL CLUB S.A.; Linked To: ENFARRADOS COMPANY S.A.S.; Linked To: CENTRO DE DIAGNOSTICO AUTOMOTOR DEL SUR LTDA.; Linked To: CAFETERIA ENVICENTRO; Linked To: TIENDAS MARGOS).

5. GARCIA ARBOLEDA, Edward (a.k.a. “ORION”); DOB 04 Jun 1975; POB Urrao, Antioquia, Colombia; citizen Colombia; Cedula No. 98624193 (Colombia) (individual) [SDNTK] (Linked To: LA TIENDA DE MINGO; Linked To: INVERSIONES C.P.C.L. Y CIA. S. EN C.S.).

6. GUTIERREZ RESTREPO, Luis Fernando (a.k.a. “LUIFER”); DOB 13 Aug 1958; POB Belmira, Antioquia, Colombia; citizen Colombia; Cedula No. 70550107 (Colombia) (individual) [SDNTK] (Linked To: ROBIREPUESTOS; Linked To: IMPORTADORA MARENOL LIMITADA).

7. ISAZA SANCHEZ, Felix Alberto (a.k.a. “BETO”); DOB 24 Apr 1966; POB Envigado, Antioquia, Colombia; citizen Colombia; Cedula No. 98517169 (Colombia) (individual) [SDNTK].

8. ISAZA SANCHEZ, Nelson Dario (a.k.a. “NENE”); DOB 11 Aug 1967; POB Envigado, Antioquia, Colombia; citizen Colombia; Cedula No. 98521489 (Colombia) (individual) [SDNTK].

9. RUIZ MADRID, Adriana Maria; DOB 14 Dec 1968; POB Envigado, Antioquia, Colombia; citizen Colombia; Cedula No. 42897418 (Colombia) (individual) [SDNTK] (Linked To: CARYTES ENCANTO Y BELLEZA).

10. UPEGUI GALLEGO, Juan Pablo; DOB 16 Oct 1980; POB Itagui, Antioquia, Colombia; citizen Colombia; Cedula No. 3391839 (Colombia) (individual) [SDNTK] (Linked To: ENVIGADO FUTBOL CLUB S.A.; Linked To: ENFARRADOS COMPANY S.A.S.; Linked To: CENTRO DE DIAGNOSTICO AUTOMOTOR DEL SUR LTDA.).

Entities

1. ACUAMATERIALES Y CIA. LIMITADA, Carrera 51 B No. 12 Sur 21 Piso 2, Medellin, Colombia; NIT # 811022933-3 (Colombia) [SDNTK].

2. CAFETERIA ENVICENTRO, Carrera 48 No. 49 Sur 45, Envigado, Antioquia, Colombia; Matricula Mercantil No 138589 (Aburra Sur) [SDNTK].

3. CARYTES ENCANTO Y BELLEZA, Calle 6AS 43 A LC 3188, Medellin, Colombia; Centro Comercial Oviedo, Local 3188, El Poblado, Medellin, Colombia; Matricula Mercantil No 40551702 (Medellin) [SDNTK].

4. CENTRO DE DIAGNOSTICO AUTOMOTOR DEL SUR LTDA. (a.k.a. ENVICENTRO), Carrera 48 No. 49 Sur 45, Envigado, Antioquia, Colombia; NIT # 800233878-1 (Colombia) [SDNTK].

5. COLOMBIANA DE BIOCOMBUSTIBLES S.A. (a.k.a. COLBIO), Carrera 15 No. 90-66 Int. 103, Medellin, Colombia; Calle 36A Sur No. 46A-81, Centro Comercial Metro Sur, Local 240, Envigado, Antioquia, Colombia; Km. 53 Via Santa Fe de Antioquia, Vereda Ahuyamal, Sopetran, Antioquia, Colombia; Km. 4 Via al Bagre, Caucasia, Antioquia, Colombia; Web site www.colbio.com; NIT # 900089105-2 (Colombia) [SDNTK].

6. ENFARRADOS COMPANY S.A.S., Carrera 48 No. 46 Sur 150, Envigado, Antioquia, Colombia; NIT # 900347098-6 (Colombia) [SDNTK].

7. ENVIGADO FUTBOL CLUB S.A. (a.k.a. ENVIGADO F.C.), Carrera 48 No. 46 Sur 150, Envigado, Antioquia, Colombia; Web site www.envigadofutbolclub.net; NIT # 900470848-9 (Colombia) [SDNTK].

8. GARCES Y BEDOYA CIA. LTDA, Carrera 50 No. 37-35, Medellin, Colombia; NIT # 800119082-9 (Colombia) [SDNTK].

9. IMPORTADORA MARENOL LIMITADA, Carrera 50 No. 39-71, Medellin, Colombia; NIT # 800104353-4 (Colombia) [SDNTK].

10. INVERSIONES C.P.C.L. Y CIA. S. EN C.S., Carrera 48 No. 25 B Sur 12, Envigado, Antioquia, Colombia; NIT # 900315175-8 (Colombia) [SDNTK].

11. LA TIENDA DE MINGO, Calle 5 D No. 6 125, Medellin, Colombia; Matricula Mercantil No 16218702 (Medellin) [SDNTK].

12. REPRESENTACIONES MIDAS, Plaza Envigado, Local 89, Envigado, Antioquia, Colombia; Calle 40 Sur No. 40 20, Envigado, Antioquia, Colombia; Matricula Mercantil No 54512 (Aburra Sur) [SDNTK].

13. ROBIREPUESTOS, Carrera 50 No. 41-41 Local 112, Medellin, Colombia; Matricula Mercantil No 21-438991-02 (Medellin) [SDNTK].

14. TIENDAS MARGOS (a.k.a. “MARGO'S”), Calle 38A Sur No. 43A 41, Envigado, Antioquia, Colombia; Matricula Mercantil No 5352 (Aburra Sur) [SDNTK].

Dated: November 19, 2014.
John Smith,
Acting Director, Office of Foreign Assets Control.

[FR Doc. 2014-27915 Filed 11-24-14; 8:45 am]

BILLING CODE 4810-AL-P